CIVIL RIGHTS COMMISSION

Sunshine Act Meeting Notice

AGENCY: United States Commission on Civil Rights.

ACTION: Notice of Commission public business meeting.

DATES: Friday, September 14, 2018, 10:00 a.m. EST.

ADDRESSES: Place: National Place Building, 1331 Pennsylvania Ave. NW, 11th Floor, Suite 1150, Washington, DC 20245 (Entrance on F Street NW).

FOR FURTHER INFORMATION CONTACT: Brian Walch, phone: (202) 376-8371; TTY: (202) 376-8116; email: publicaffairs@usccr.gov.

SUPPLEMENTARY INFORMATION: This business meeting is open to the public. There will also be a call-in line for individuals who desire to listen to the presentations: 800-682-0995; Conference ID 4872955. The event will also live-stream at https://www.youtube.com/user/USCCR/videos. (Please note that streaming information is subject to change.) Persons with disabilities who need accommodation should contact Pamela Dunston at (202) 376-8105 or at signlanguage@usccr.gov at least seven (7) business days before the scheduled date of the meeting.

Meeting Agenda

I. Approval of Agenda

II. Business Meeting

A. Presentation by Indiana Advisory Committee Chair on the Committee's recently released report, Voting Rights in Indiana

B. Presentation by Texas Advisory Committee Chair on the Committee's recently released report, Voting Rights in Texas

C. Presentation by Alabama Advisory Committee Chair on the Committee's recently released report, Access to Voting in Alabama

D. Discussion and Vote on Fiscal Year 2019 Program Planning

E. Discussion and Vote on Fiscal Year 2020 Program Planning for Statutory Enforcement Report

F. Management and Operations

• Staff Director's Report

III. Adjourn Meeting

Dated: September 4, 2018.
David Mussatt,
Supervisory Chief, Regional Programs Unit.

[FR Doc. 2018-19455 Filed 9-4-18; 4:15 pm]

BILLING CODE 6335-01-P